DEPARTMENT OF JUSTICE

Notice of Lodging of Consent Decree Under The Comprehensive Environmental Response, Compensation, and Liability Act

Notice is hereby given that on October 3, 2007, a proposed Consent Decree is United States and State of Oklahoma v. BNSF Railway Company, Case No. 5:07-cv-1080, was lodged with the United States District Court for the Western District of Oklahoma.

The proposed Consent Decree resolves claims alleged by the United States, on behalf of the United States Environmental Protection Agency (“EPA”), and the United States Department of the Interior (“DOI”), against the BNSF Railway Company, under the Comprehensive Environmental Response, Compensation, and Liability Act (“CERCLA”), 42 U.S.C. 9601 et seq. The claims were alleged in a Complaint filed with the Court on September 25, 2007 which sought to recover response costs incurred and to be incurred and natural resource damages at the Double Eagle Superfund Site in Oklahoma City, Oklahoma. The proposed Consent Decree also resolves similar claims alleged by the State of Oklahoma in the Complaint. The proposed Consent Decree provides that the BNSF Railway Company, which sent approximately 50,000 gallons of waste diesel fuel for disposal at the Site, will pay the Untied States and the State of Oklahoma $300,000 in response costs and natural resource damages. The Consent Decree represents a settlement with the BNSF Railway Company as a de minimis party pursuant to section 122 of CERCLA, 42 U.S.C. 9622.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States and State of Oklahoma v. BNSF Railway Company, D.J. Ref. No. 90-11-2-857/2.

During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $7.75 (25 cents per page reproduction cost) payable to the “U.S. Treasury” or, if by e-mail or fax, forward a check in that amount to the Consent Decree Library at the stated address.

Thomas A. Mariani, Jr.,
Assistant Section Chief, Environmental Enforcement Section, Environment and Natural Resources Division, U.S. Department of Justice.

[FR Doc. 07-5048 Filed 10-11-07; 8:45 am]

BILLING CODE 4410-15-M